DEPARTMENT OF AGRICULTURE

Forest Service

Helena Nation Forest: Dalton Mountain Forest Restoration & Fuels Reduction Project

AGENCY: Forest Service, USDA.

ACTION: Notice of intent to prepare an environmental impact statement.

SUMMARY: The Helena National Forest (HNF) is proposing on the Lincoln Ranger District both commercial and non-commercial treatments using mechanical harvesting, pre-commercial thinning, hand felling, and prescriber burning within a project boundary encompassing about 18,240 acres to improve vegetative structure and fuels arrangement; enhance composition of aspen, whitebark pine, and ponderosa pine species; modify fire behavior to enhance community protection while creating conditions to allow reestablishment of controlled periodic fire; and capturing the value of removed trees in an economical approach.

DATES: Comments concerning the scope of the analysis and to be most helpful in this due process must be received by November 30, 2011. The draft environmental impact statement is expected February 2013 and the final environmental impact statement is expected June of 2013.

ADDRESSES: Send written comments to Amber Kamps, Helena National Forest, 1569 Hwy. 200, Lincoln, MT 59639. Comments may also be sent via email to comments-northern-helena@fs.fed.us, or via facsimile to (406) 362-4253. Please indicate `Dalton Scoping' on the subject line. Comments received in response to this solicitation, including names and addresses of those who comment, will be part of the public record for this proposal.

FOR FURTHER INFORMATION CONTACT: Amber Kamps at (406) 362-7000 or Jan FauntLeRoy at (406) 449-5201.

Individuals who use telecommunication devices for the deaf (TDD) may call the Federal Information Relay Service (FIRS) at 1-(800) 877-8339 between 8 a.m. and 8 p.m., Eastern Time, Monday through Friday.

SUPPLEMENTARY INFORMATION: The Forest Service, using agency data, has implemented a collaborative approach in the preliminary development of this proposed action. Involved in this due process was the Lincoln Restoration Committee (LRC) of the Montana Forest Restoration Committee (MFRC). The MFRC is a collaborative group with representatives from diverse interests who came together in 2007 to help address stewardship issues. The LRC is a group of private citizens with diverse community interests and was formed in 2008 with the purpose of working within the framework developed by the MFRC and developing recommendations for restoration projects on the Lincoln Ranger District, HNF. Please go to the Web site http://www.montanarestoration.org for further information regarding this group. The HNF has been working collaboratively with this group in compliance with Executive Order 13352-Facilitation of Cooperative Conservation.

Purpose and Need for Action

Forest restoration and fuel reduction in the Dalton Mountain area is needed to move toward the goals of the HNF, Forest Plan, specifically II.A.14: Provide a fire protection and use program which is responsive to land and resource management goals and objectives; II.A.17: Coordinate Forest management activities with the land and resource management efforts of other Federal agencies, state and local governments, and adjacent private landowners; and II.A: Provide sustained timber yield that is responsive to local industry and national needs.

Much of the area's current condition is a mixed-severity fire regime that is dominated by lodgepole pine. Tree mortality from a mountain pine beetle epidemic is extensive. This area lacks the desired forest structure and species diversity. Some other tree species native to the area including aspen, whitebark pine, and ponderosa pine do not occur in the numbers desired and as envisioned by the HNF, Forest Plan.

The specific needs for this proposal are:

• Improve vegetative structure and fuels arrangement resulting in diversity of structure, patterns, and patch sizes across the landscape.

• Enhance composition of aspen, whitebark pine, and ponderosa pine species and their habitats.

• Modify fire behavior to enhance community protection while creating conditions that may allow the reestablishment of fire as a natural process on the landscape.

• Utilize economic value of trees with economic removal.

Proposed Action

The Forest Supervisor on the HNF is proposing forest restoration and fuels reduction on the Lincoln Ranger District about five miles southwest of Lincoln, Montana.

The actions in this proposal include mechanical harvesting, pre-commercial thinning, fuels reduction by hand felling, and prescribed burning. About 6.4 miles of road would be built to facilitate commercial removal, then would be obliterated following implementation of this project. This proposal also includes treatments within the boundaries of Ogden Mountain and Nevada Mountain Inventoried Roadless Areas (IRA). These treatments include about 1,815 acres of prescribed burning and non-commercial hand slashing in the Nevada Mountain IRA and about 4,906 acres of fuels reduction by hand felling and prescribed fire with non-commercial hand slashing applied in the Ogden Mountain IRA. No commercial removal or road construction would occur within these IRAs.

This proposed action also includes `control' units along with managed units with the purpose to compare their results in treating or not treating similar sites. Studying these results would strengthen the learning and collaborative adaptive management of restoration in the mixed severity fire regime.

Responsible Official

Helena National Forest Supervisor.

Nature of Decision To Be Made

Whether or not to implement the proposed action or an alternative to the proposed action, what monitoring would be appropriate to evaluate implementation of this project, and whether a Forest Plan amendment would be necessary as a result of the decision for this project.

Preliminary Issues

• Proposed activities reducing wildlife habitat e.g. lynx.

• Configuration of treatment and control units that effectively meets or moves the project area toward the purpose and need for this project.

Scoping Process

This notice of intent initiates the scoping process, which guides the development of the environmental impact statement. A scoping package has been mailed to interested publics, tribes and other agencies in October of 2011. A community open house conducted by the Lincoln Restoration Group and supported/participated by the Forest Service was held in early November 2011. Pertinent project information and more detail is also posted on the Helena National Forest Web site at http://www.fs.fed.us/r1/helena. Please provide comments specific to the actions proposed to meet the purpose and need for this project.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered; however, anonymous comments will not provide the Agency with the ability to provide the respondent with subsequent environmental documents.

Dated: November 9, 2011.
Kevin T. Riordan,
Forest Supervisor.

[FR Doc. 2011-29564 Filed 11-15-11; 8:45 am]

BILLING CODE 3410-11-P